DEPARTMENT OF COMMERCE

National Oceanic and Atmospheric Administration

RIN: 0648-XR41

New England Fishery Management Council; Public Meeting

AGENCY: National Marine Fisheries Service (NMFS), National Oceanic and Atmospheric Administration (NOAA), Commerce.

ACTION: Public meeting.

SUMMARY: The New England Fishery Management Council (Council) will hold a 3-day Council meeting on September 22-24, 2009 to consider actions affecting New England fisheries in the exclusive economic zone (EEZ)

DATES: The meeting will begin on Tuesday, September 22, 2009, beginning at 9 a.m., and on Wednesday and Thursday, September 23-24, 2009, beginning at 8:30 a.m. each day.

ADDRESSES: The meeting will be held at the Radisson Hotel, 180 Water Street, Plymouth, MA 02360; telephone: (508) 747-4900; fax: (508) 747-8937.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, September 22, 2009

Following introductions and any announcements, the Council will elect officers for 2009-10 and swear in the new and reappointed members for the upcoming year. The Council will receive a series of brief reports from the Council Chairman and Executive Director, the NOAA Fisheries Northeast Regional Administrator, Northeast Fisheries Science Center and Mid-Atlantic Fishery Management Council liaisons, NOAA General Counsel, representatives of the U.S. Coast Guard and the Atlantic States Marine Fisheries Commission, as well as NOAA Enforcement. These reports will be followed by a review of any experimental fishery permit applications that have been received since the last Council meeting. A brief public comment period will occur prior to the afternoon lunch break. The afternoon session will begin with the Council's Research Steering Committee review of its evaluation of final reports for a number of cooperative research projects. The Monkfish Committee will review and possibly approve a recommendation to defer measures that had previously been approved for consideration in Amendment 5 to the Monkfish Fishery Management Plan (FMP). These could include the monkfish incidental catch limits, and alternative catch share management programs. The Whiting Committee will discuss draft alternatives to be developed and analyzed in Amendment 17 to the Northeast Multispecies FMP.

Wednesday, September 23, 2009

The Wednesday session of the Council meeting will begin with reports from the Northeast Fisheries Science Center concerning the recent Transboundary Resource Assessment Committee (TRAC) meeting results. The review will include a report on herring and the three groundfish stocks addressed through the U.S./Canada Resource Sharing Agreement (Eastern Georges Bank cod, Eastern Georges Bank haddock and Georges Bank yellowtail flounder). The Council's Scientific and Statistical Committee will provide its recommendations on: final acceptable biological catch (ABCs) and ABC control rules for groundfish, scallops, herring and red crab; and provide a corrected 2010-11 skate complex ABC value to be included in Amendment 3 to the Skate FMP (the recalculation will include the 2008 spring survey values for little skate). The Council will then address a number of groundfish management issues which will include: consideration and approval of the Transboundary Management Guidance Committee's catch recommendations for 2010 for Eastern Georges Bank cod, Eastern Georges Bank haddock and Georges Bank yellowtail flounder; Council advice on measures for the U.S./Canada area in fishing year 2010; and development of groundfish ACLs for fishing years 2010-12 (including the yellowtail flounder sub-components for the scallop fishery). Final action on the ACLs is planned for the November Council meeting. There also will be a discussion regarding a NMFS letter dated August 24, 2009 concerning Amendment 16 measures for common pool vessels (in particular, measures for GOM cod and pollock), and possible initiation of a framework action in response to the letter. This meeting will be the first framework meeting if an action is initiated.

Thursday, September 24, 2009

On the last day of the Council meeting NMFS will present information on the most recent amendment to the Consolidated HMS FMP, an action which focuses on small coastal sharks, shortfin mako, and smooth dogfish issues. NMFS staff will present the management measures analyzed in the Draft Environmental Impact Statement and the proposed rule for draft Amendment 3 to the FMP and, on behalf of the agency, will seek Council comments. The Scallop Survey Advisory Panel will report on its most recent meeting followed by a report from the Council's Scallop Committee. During that discussion, the Council will review and is expected to approve the Draft Environmental Impact Statement for Scallop Amendment 15 for purposes of soliciting input at public hearings. Measures will include annual catch limit requirements, address excess capacity in the limited access scallop fishery through permit stacking and leasing alternatives, modifications to some measures for the limited access general category fishery and other measures. An update on Framework Adjustment 21 also will be provided.

Although other non-emergency issues not contained in this agenda may come before this Council for discussion, those issues may not be the subjects of formal action during these meetings. Council action will be restricted to those issues specifically listed in this notice and any issues arising after publication of this notice that require emergency action under section 305(c) of the Magnuson-Stevens Act, provided that the public has been notified of the Council's intent to take final action to address the emergency.

Special Accommodations

These meetings are physically accessible to people with disabilities. Requests for sign language interpretation or other auxiliary aids should be directed to Paul J. Howard (see ADDRESSES) at least 5 days prior to the meeting date.

Dated: August 31, 2009.
Tracey L. Thompson,
Acting Director, Office of Sustainable Fisheries, National Marine Fisheries Service.

[FR Doc. E9-21315 Filed 9-3-09; 8:45 am]

BILLING CODE 3510-22-S